DEPARTMENT OF TRANSPORTATION

Federal Aviation Administration

14 CFR Part 39

[Docket No. FAA-2013-0145; Directorate Identifier 2012-SW-059-AD]

RIN 2120-AA64

Airworthiness Directives; Agusta S.p.A. and Bell Helicopter Textron Helicopters

AGENCY: Federal Aviation Administration (FAA), DOT.

ACTION: Notice of proposed rulemaking (NPRM).

SUMMARY: We propose to adopt a new airworthiness directive (AD) for Agusta S.p.A. (Agusta) Model AB412 and AB412 EP, and Bell Helicopter Textron (Bell) Model 412, 412CF, and 412EP helicopters with certain DART Aerospace Ltd. (Dart) high gear aft crosstubes (crosstube) installed. This proposed AD would require adding a life limit of 10,000 landings to the crosstube and removing from service any crosstubes with more than 10,000 accumulated landings. This proposed AD is prompted by five separate reports of crosstube failures. The actions in this proposed AD are intended to prevent failure of the crosstube and subsequent collapse of the landing gear.

DATES: We must receive comments on this proposed AD by April 26, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Dart Aerospace LTD., 1270 Aberdeen St, Hawkesbury, ON, K6A 1K7, Canada; telephone: 1 613 632 5200; Fax: 1 613 632 5246; or at www.dartaero.com. You may review the referenced service information at the FAA, Office of the Regional Counsel, Southwest Region, 2601 Meacham Blvd., Room 663, Fort Worth, Texas 76137.

FOR FURTHER INFORMATION CONTACT: Jeffrey Zimmer, Airframe Engineer, New York Aircraft Certification Office, Engine and Propeller Directorate, FAA, 1600 Stewart Ave., Suite 410, Westbury, New York 11590; telephone (516) 228-7306; email jeffrey.zimmer@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

Transport Canada (TC), which is the aviation authority for Canada, has issued TC AD No. CF-2012-14R1, dated May 9, 2012 (CF-2012-14R1), to correct an unsafe condition for the Dart high gear aft crosstube assembly, part number (P/N) D412-664-203, approved under TC Supplemental Type Certificate (STC) SH01-9, FAA STC SR01298NY, and European Aviation Safety Agency (EASA) STC IM.R.S.01304, and installed on Agusta Model AB412 and AB412 EP and Bell Model 412, 412EP, and 412CF helicopters. TC advises that they have received five reports of these crosstubes failing. According to TC, based on these reports, the affected crosstube requires a life limitation of 10,000 landings. As a result, TC issued CF-2012-14R1, which requires amending the instructions for continued airworthiness (ICA) to establish the new life limitation, and removing from service all crosstubes with more than 10,000 landings.

FAA's Determination

These helicopters have been approved by the aviation authority of Canada and are approved for operation in the United States. Pursuant to our bilateral agreement with Canada, TC, its technical representative, has notified us of the unsafe condition described in its AD. We are proposing this AD because we evaluated all known relevant information and determined that an unsafe condition is likely to exist or develop on other products of the same type design.

Related Service Information

We reviewed Dart ICA No. ICA-D212-664, Revision 8, dated October 20, 2011, which contains the airworthiness limitations, inspection requirements, proper placards and markings, and maintenance procedures for crosstube P/N D212-664 and D412-664. Revision 8 establishes a life limit of 10,000 landings for crosstube P/N D412-664-203.

Proposed AD Requirements

This proposed AD would require establishing a component history card for each crosstube, P/N D412-664-203; revising the airworthiness limitations of the maintenance manual to establish a life limit of 10,000 landings for each crosstube; and removing from service any crosstube with more than 10,000 landings.

Costs of Compliance

We estimate that this proposed AD would affect 76 helicopters of U.S. Registry. Based on an average labor cost of $85 per hour, we estimate that operators may incur the following costs in order to comply with this AD. Creating a component history card and amending the ICA would require about 1 work-hour, for a cost per helicopter of $85 and a total cost to U.S. operators of $6,460. Replacing a crosstube that has exceeded its life-limit would require about 6 work-hours and required parts would cost about $10,351, for a total cost per helicopter of $10,861.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Agusta S.P.A. and Bell Helicopter Textron Helicopters: Docket No. FAA-2012-*****; Directorate Identifier 2012-SW-059-AD.

(a) Applicability

This AD applies to Agusta S.p.A. Model AB412 and AB412 EP helicopters and Bell Helicopter Textron Model 412, 412CF, and 412EP helicopters with a DART Aerospace Ltd. high gear aft crosstube (crosstube), part-number (P/N) D412-664-203 installed under Supplemental Type Certificate SR01298NY, certificated in any category.

(b) Unsafe Condition

This AD defines the unsafe condition as failure of a crosstube, which could result in collapse of the landing gear.

(c) Reserved

(d) Compliance

You are responsible for performing each action required by this AD within the specified compliance time unless it has already been accomplished prior to that time.

(e) Required Actions

Within 30 days:

(1) Create a component history card or equivalent record for each crosstube. Determine the number of landings on each crosstube and enter it on the component history card or equivalent record. If the number of landings is unknown, calculate 10 landings per flight hour.

(2) Revise the Airworthiness Limitations section of the maintenance manual to reflect that crosstube, P/N D412-664-203, has a retirement life of 10,000 landings.

(3) Remove from service any crosstube with a number of landings equal to or greater than 10,000.

(f) Alternative Methods of Compliance (AMOCs)

(1) The Manager, New York Aircraft Certification Office, FAA, may approve AMOCs for this AD. Send your proposal to: ATTN: Program Manager, Continuing Operational Safety, FAA, New York ACO, 1600 Stewart Ave., suite 410, Westbury, New York 11590; telephone (516) 228-7300; fax (516) 794-5531.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) The subject of this AD is addressed in Transport Canada AD No. CF-2012-14R1, dated May 9, 2012.

(h) Subject

Joint Aircraft Service Component (JASC) Code: 3213: Main Landing Gear Strut/Axle/Truck.

Issued in Fort Worth, Texas, on February 18, 2013.
Kim Smith,
Manager, Rotorcraft Directorate, Aircraft Certification Service.

[FR Doc. 2013-04223 Filed 2-22-13; 8:45 am]

BILLING CODE 4910-13-P